DEPARTMENT OF HOMELAND SECURITY

Federal Emergency Management Agency

[Docket ID FEMA-2025-0002; Internal Agency Docket No. FEMA-B-2538]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience, Federal Emergency Management Agency, Department of Homeland Security.

State and county | Location and case No. | Chief executive officer of community | Community map repository | Online location of letter of map revision | Date of modification | Community No.
Alabama: Henry | City of Headland (25-04-0618P). | The Honorable Ray Marler, Mayor, City of Headland, 25 Grove Street, Headland, AL 36345. | City Hall, 25 Grove Street, Headland, AL 36345. | https://msc.fema.gov/portal/advanceSearch. | Sept. 12, 2025 | 010097
Florida:
Bay | Unincorporated areas of Bay County (24-04-2496P). | Robert Majka, Bay County Manager, 840 West 11th Street, Panama City, FL 32401. | Bay County Planning and Zoning Department, 840 West 11th Street, Panama City, FL 32401. | https://msc.fema.gov/portal/advanceSearch. | Sept. 29, 2025 | 120004
Hillsborough | City of Tampa (24-04-1192P). | The Honorable Jane Castor, Mayor, City of Tampa, 306 East Jackson Street, Tampa, FL 33602. | City Hall, 306 East Jackson Street, Tampa, FL 33602. | https://msc.fema.gov/portal/advanceSearch. | Sept. 15, 2025 | 120114
Leon | City of Tallahassee (24-04-2135P). | The Honorable John E. Dailey, Mayor, City of Tallahassee, 300 South Adams Street, Tallahassee, FL 32301. | Growth Management Department, 435 North Macomb Street, Tallahassee, FL 32301. | https://msc.fema.gov/portal/advanceSearch. | Sept. 12, 2025 | 120144
Marion | City of Ocala (24-04-6051P). | The Honorable Ben Marciano, Mayor, City of Ocala, 110 Southeast Watula Avenue, Ocala, FL 34471. | Stormwater Engineering Department, 1805 Northeast 30th Avenue, Building 300, Ocala, FL 34470. | https://msc.fema.gov/portal/advanceSearch. | Sept. 18, 2025 | 120330
Pasco | Unincorporated areas of Pasco County (24-04-2841P). | Kathryn Starkey, Chair, Pasco County Board of Commissioners, 8731 Citizens Drive, New Port Richey, FL 34654. | Pasco County Building Construction Services Department, 8661 Citizens Drive, Suite 100, New Port Richey, FL 34654. | https://msc.fema.gov/portal/advanceSearch. | Sept. 15, 2025 | 120230
Volusia | City of Daytona Beach (24-04-6429P). | The Honorable Derrick Henry, Mayor, City of Daytona Beach, 301 South Ridgewood Avenue, Daytona Beach, FL 32114. | City Hall, 301 South Ridgewood Avenue, Daytona Beach, FL 32114. | https://msc.fema.gov/portal/advanceSearch. | Sept. 29, 2025 | 125099
Georgia:
DeKalb | City of Doraville (24-04-6430P). | The Honorable Joseph Geierman, Mayor, City of Doraville, 3725 Park Avenue, Doraville, GA 30340. | City Hall, 3725 Park Avenue, Doraville, GA 30340. | https://msc.fema.gov/portal/advanceSearch. | Sep. 26, 2025 | 130069
DeKalb | City of Dunwoody (24-04-6430P). | The Honorable Lynn Deutsch, Mayor, City of Dunwoody, 4800 Ashford Dunwoody Road, Dunwoody, GA 30338. | City Hall, 4800 Ashford Dunwoody Road, Dunwoody, GA 30338. | https://msc.fema.gov/portal/advanceSearch. | Sep. 26, 2025 | 130679
Illinois:
Will | Unincorporated areas of Will County (24-05-2559P). | Jennifer Bertino-Tarrant, Will County Executive, 302 North Chicago Street, Joliet, IL 60432. | Will County Land Use Department, 58 East Clinton Street, Suite 100, Joliet, IL 60432. | https://msc.fema.gov/portal/advanceSearch. | Sep. 19, 2025 | 170695
Will | Village of New Lenox (24-05-2559P). | The Honorable Timothy Baldermann, Mayor, Village of New Lenox, 1 Veterans Parkway, New Lenox, IL 60451. | Village Hall, 1 Veterans Parkway, New Lenox, IL 60451. | https://msc.fema.gov/portal/advanceSearch. | Sep. 19, 2025 | 170706
Nebraska: Arthur | Village of Arthur (24-07-0626P). | Laura Cooney, Chair, Village of Arthur, P.O. Box 232, Arthur, NE 69121. | West Central Nebraska Development District, 333 East 2nd Street, Ogallala, NE 69153. | https://msc.fema.gov/portal/advanceSearch. | Oct. 23, 2025 | 310006
New York: Niagara | City of Niagara Falls (23-02-0348P). | The Honorable Robert Restaino, Mayor, City of Niagara Falls, 745 Main Street, Niagara Falls, NY 14301. | City Hall, 745 Main Street, Niagara Falls, NY 14301. | https://msc.fema.gov/portal/advanceSearch. | Nov. 7, 2025 | 360506
North Carolina:
Durham | City of Durham (24-04-1754P). | The Honorable Leonardo Williams, Mayor, City of Durham, 101 City Hall Plaza, Durham, NC 27701. | Durham City-County Planning Department , 101 City Hall Plaza Durham, NC 27701. | https://msc.fema.gov/portal/advanceSearch. | Aug. 21, 2025 | 370086
Durham | Unincorporated areas of Durham County (24-04-1754P). | Nida Allam, Chair, Durham County Board of Commissioners, 200 East Main Street , Durham, NC 27701. | Durham City-County Planning Department , 101 City Hall Plaza Durham, NC 27701. | https://msc.fema.gov/portal/advanceSearch. | Aug. 21, 2025 | 370085
Henderson | Town of Fletcher (24-04-0421P). | The Honorable Preston Blakely, Mayor, Town of Fletcher, 300 Old Cane Creek Road, Fletcher, NC 28732. | Planning and Zoning Department, 300 Old Cane Creek Road, Fletcher, NC 28732. | https://msc.fema.gov/portal/advanceSearch. | Oct. 13, 2025 | 370568
Henderson | Town of Mills River (24-04-0421P). | The Honorable Shanon Gonce, Mayor, Town of Mills River, 124 Town Center Drive, Mills River, NC 28759. | Planning and Zoning Department, 124 Town Center Drive, Mills River, NC 28759. | https://msc.fema.gov/portal/advanceSearch. | Oct. 13, 2025 | 370025
Henderson | Unincorporated areas of Henderson County (24-04-0421P). | William Lapsley, Chair, Henderson County Board of Commissioners, 1 Historic Courthouse Square, Suite 1, Hendersonville, NC 28792. | Henderson County Planning Department, 100 North King Street, Hendersonville, NC 28792. | https://msc.fema.gov/portal/advanceSearch. | Oct. 13, 2025 | 370125
Surry | Unincorporated areas of Surry County (24-04-7917P). | Mark Marion, Chair, Surry County Board of Commissioners, P.O. Box 1467, Dobson, NC 27017. | Surry County Development Services Department, 122 Hanby Road, Dobson, NC 27017. | https://msc.fema.gov/portal/advanceSearch. | Sep. 8, 2025 | 370364
Ohio: Lorain | Unincorporated areas of Lorain County (25-05-0332P). | Jeff Riddell, President, Lorain County Board of Commissioners, 226 Middle Avenue, Elyria, OH 44035. | Lorain County Community Development Department, 226 Middle Avenue, Elyria, OH 44035. | https://msc.fema.gov/portal/advanceSearch. | Sep. 15, 2025 | 390346
Oklahoma:
Tulsa | City of Bixby (25-06-0126P). | Joey Wiedel, Manager, City of Bixby, P.O. Box 70, Bixby, OK 74008. | City Hall, 116 West Needles Avenue, Bixby, OK 74008. | https://msc.fema.gov/portal/advanceSearch. | Sep. 29, 2025 | 400207
Tulsa | City of Tulsa (25-06-0126P). | The Honorable Monroe Nichols IV, Mayor, City of Tulsa, 175 East 2nd Street, Suite 690, Tulsa, OK 74103. | City Hall, 175 East 2nd Street, Suite 690, Tulsa, OK 74103. | https://msc.fema.gov/portal/advanceSearch. | Sep. 29, 2025 | 405381
Tulsa | Unincorporated areas of Tulsa County (25-06-0126P). | The Honorable Lonnie Sims, Chair, Tulsa County Board of Commissioners, 218 West 6th Street, Tulsa, OK 74119. | Tulsa County Headquarters, 218 West 6th Street, Tulsa, OK 74119. | https://msc.fema.gov/portal/advanceSearch. | Sep. 29, 2025 | 400462
Texas:
Collin | City of Allen (25-06-0050P). | The Honorable Baine Brooks, Mayor, City of Allen, 305 Century Parkway, Allen, TX 75013. | City Hall, 305 Century Parkway, Allen, TX 75013. | https://msc.fema.gov/portal/advanceSearch. | Sep. 22, 2025 | 480131
Collin | City of Plano (24-06-0008P). | The Honorable John B. Muns, Mayor, City of Plano, 1520 K Avenue, Plano, TX 75074. | City Hall, 1520 K Avenue, Plano, TX 75074. | https://msc.fema.gov/portal/advanceSearch. | Sep. 22, 2025 | 480140
Medina | Unincorporated areas of Medina County (24-06-2238P). | The Honorable Keith Lutz, Medina County Judge, 1300 Avenue M, Room 250, Hondo, TX 78861. | Old Medina County Jail, 1502 Avenue K, 2nd Floor, Hondo, TX 78861. | https://msc.fema.gov/portal/advanceSearch. | Sep. 12, 2025 | 480472
Tarrant | City of Fort Worth (24-06-2325P). | The Honorable Mattie Parker, Mayor, City of Fort Worth, 100 Fort Worth Trail, Fort Worth, TX 76102. | Department of Transportation and Public Works-Stormwater Management Division, 100 Fort Worth Trail, Fort Worth, TX 76102. | https://msc.fema.gov/portal/advanceSearch. | Sep. 18, 2025 | 480596
Tarrant | City of Fort Worth (24-06-2590P). | The Honorable Mattie Parker, Mayor, City of Fort Worth, 100 Fort Worth Trail, Fort Worth, TX 76102. | Department of Transportation and Public Works-Stormwater Management Division, 100 Fort Worth Trail, Fort Worth, TX 76102. | https://msc.fema.gov/portal/advanceSearch. | Sep. 29, 2025 | 480596
Williamson | Unincorporated areas of Williamson County (25-06-0227P). | The Honorable Steven Snell, Williamson County Judge, 710 South Main Street, Suite 101, Georgetown, TX 78626. | Williamson County Central Maintenance Facility, 3151 Southeast Inner Loop, Georgetown, TX 78626. | https://msc.fema.gov/portal/advanceSearch. | Sep. 15, 2025 | 481079
Virginia: Prince William | Unincorporated areas of Prince William County (24-03-0850P). | Deshundra Jefferson, Chair at-Large, Prince William County Board of Supervisors, 1 County Complex Court, Prince William, VA 22192. | Prince William County Department of Public Works; Environmental Management Division, 5 County Complex Court, Suite 170, Prince William, VA 22192. | https://msc.fema.gov/portal/advanceSearch. | Sep. 26, 2025 | 510119
Wisconsin: Outagamie | City of Appleton (24-05-0370P). | The Honorable Jake Woodford, Mayor, City of Appleton, 100 North Appleton Street, Appleton, WI 54911. | City Hall, 100 North Appleton Street, Appleton, WI 54911. | https://msc.fema.gov/portal/advanceSearch. | Sep. 16, 2025 | 555542

[FR Doc. 2025-12734 Filed 7-8-25; 8:45 am]

BILLING CODE 9110-12-P